DEPARTMENT OF STATE

[Delegation of Authority No. 296]

Delegation by the Under Secretary of State for Political Affairs to the Assistant Secretary of State for Educational and Cultural Affairs of the Functions Relating to Emergency Import Restrictions on Iraqi Cultural Antiquities

By virtue of the authority vested in the Secretary of State by the laws of the United States, including Section 1 of the State Department Basic Authorities Act and the Presidential Memorandum for the Secretary of State and the Secretary of Homeland Security—Assignment of Functions Relating to Import Restrictions on Iraqi Antiquities, dated May 5, 2006 (71 FR 28,753), and delegated to the Under Secretary of State for Political Affairs pursuant to Delegation of Authority No. 294 (July 6, 2006), I hereby delegate to the Assistant Secretary of State for Educational and Cultural Affairs the functions of the President under section 3002 of the Emergency Protection for Iraqi Cultural Antiquities Act of 2004 (title III of Public Law 108-429).

In performing such functions, the Assistant Secretary of State shall consult the Secretary of Homeland Security and the heads of other departments and agencies or their designees, as appropriate.

Notwithstanding this delegation of authority, the Secretary of State, the Deputy Secretary of State, the Under Secretary of State for Political Affairs and the Under Secretary of State for Public Diplomacy and Public Affairs may at any time exercise any function or authority delegated by this delegation of authority.

Any act, executive order, regulation or procedure subject to, or affected by, this delegation shall be deemed to be such act, executive order, regulation or procedure as amended from time to time.

This delegation of authority shall be published in the Federal Register.

Dated: December 22, 2007.
R. Nicholas Burns,
Under Secretary of State for Political Affairs, Department of State.

[FR Doc. E7-3011 Filed 2-21-07; 8:45 am]

BILLING CODE 4710-24-P